DEPARTMENT OF ENERGY

Federal Energy Regulatory Commission

Combined Notice of Filings #1

Take notice that the Commission received the following electric corporate filings:

Docket Numbers: EC11-63-000.

Applicants: UniSource Energy Development Company, UNS Electric, Inc.

Description: Application pursuant to section 203 of the Federal Power Act and request for expedited consideration and approval by June 6, 2011 re UniSource Energy Development Company et al.

Filed Date: 04/07/2011.

Accession Number: 20110411-0202.

Comment Date: 5 p.m. Eastern Time on Thursday, April 28, 2011.

Docket Numbers: EC11-64-000.

Applicants: EnergyConnect, Inc., Johnson Controls, Inc.

Description: Authorization of Disposition of Jurisdictional Facilities Under section 203 of the FPA and Request for Waivers of Certain Filing Requirements and Request for Shortened Comment Period and Expedited Consideration.

Filed Date: 04/11/2011.

Accession Number: 20110411-5227.

Comment Date: 5 p.m. Eastern Time on Monday, May 2, 2011.

Docket Numbers: EC11-65-000.

Applicants: Entegra Power Group LLC, Gila River Power, L.P., Gila River Energy Supply LLC.

Description: Joint Application for Authorization Under section 203 of the Federal Power Act, Request for Waiver of Certain Commission Requirements, and Request for Expedited Treatment of Entegra Power Group LLC, et al.

Filed Date: 04/11/2011.

Accession Number: 20110411-5229.

Comment Date: 5 p.m. Eastern Time on Monday, May 2, 2011.

Take notice that the Commission received the following electric rate filings:

Docket Numbers: ER05-1232-034.

Applicants: J.P. Morgan Ventures Energy Corporation.

Description: Supplemental Information of J.P. Morgan Ventures Energy Corporation re: Updated Market Power Analysis and Order No. 697 Compliance Filing.

Filed Date: 04/07/2011.

Accession Number: 20110407-5160.

Comment Date: 5 p.m. Eastern Time on Thursday, April 28, 2011.

Docket Numbers: ER10-1790-002.

Applicants: BP Energy Company.

Description: BP Energy Company submits tariff filing per 35: Baseline MBR Tariff Filing of BP Energy Company to be effective 8/1/2010.

Filed Date: 04/11/2011.

Accession Number: 20110411-5000.

Comment Date: 5 p.m. Eastern Time on Monday, May 02, 2011.

Docket Numbers: ER10-2719-003; ER10-2718-003; ER10-2578-005; ER10-2633-003; ER10-2570-003; ER10-2717-003; ER10-3140-003.

Applicants: Cogen Technologies Linden Venture, L.P., Fox Energy Company LLC, Birchwood Power Partners, L.P., East Coast Power Linden Holding, LLC, EFS Parlin Holdings, LLC, Inland Empire Energy Center, LLC, Shady Hills Power Company LLC.

Description: Notice of Non-Material Change in Status of East Coast Power Linden Holding, LLC et al.

Filed Date: 04/11/2011.

Accession Number: 20110411-5125.

Comment Date: 5 p.m. Eastern Time on Monday, May 2, 2011.

Docket Numbers: ER11-3329-000.

Applicants: Gila River Energy Supply LLC.

Description: Gila River Energy Supply LLC submits tariff filing per 35.1: Gila River Energy Supply MBR Application to be effective 5/11/2011.

Filed Date: 04/11/2011.

Accession Number: 20110411-5096.

Comment Date: 5 p.m. Eastern Time on Monday, May 2, 2011.

Docket Numbers: ER11-3330-000.

Applicants: Midwest Independent Transmission System Operator, Inc.

Description: Midwest Independent Transmission System Operator, Inc. submits tariff filing per 35.13(a)(2)(iii): G931-G996-H100 MPFCA to be effective 4/12/2011.

Filed Date: 04/11/2011.

Accession Number: 20110411-5102.

Comment Date: 5 p.m. Eastern Time on Monday, May 2, 2011.

Docket Numbers: ER11-3331-000.

Applicants: Southwest Power Pool, Inc.

Description: Southwest Power Pool, Inc. submits tariff filing per 35.13(a)(2)(iii): Submission of Change to SPS Pricing Zone Rate to be effective 1/1/2011.

Filed Date: 04/11/2011.

Accession Number: 20110411-5136.

Comment Date: 5 p.m. Eastern Time on Monday, May 02, 2011.

Docket Numbers: ER11-3332-000.

Applicants: Electric Energy, Inc.

Description: Electric Energy, Inc. submits tariff filing per 35: Baseline Tariff Revisions to Remove BREC Restriction to be effective 4/11/2011.

Filed Date: 04/11/2011.

Accession Number: 20110411-5137.

Comment Date: 5 p.m. Eastern Time on Monday, May 2, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: April 12, 2011.
Nathaniel J. Davis, Sr.,
Deputy Secretary.

[FR Doc. 2011-9406 Filed 4-18-11; 8:45 am]

BILLING CODE 6717-01-P